DEPARTMENT OF COMMERCE

National Telecommunications and Information Administration

[Docket No. 200609-0154]

RIN 0660-XC046

Promoting the Sharing of Supply Chain Security Risk Information Between Government and Communications Providers and Suppliers

AGENCY: National Telecommunications and Information Administration, U.S. Department of Commerce.

ACTION: Notice; extension of comment period.

SUMMARY: On June 12, 2020, the National Telecommunications and Information Administration (NTIA) published a Notice and Request for public comments on Section 8 of the Secure and Trusted Communications Network Act of 2019 (Act). Section 8 of the Act directs NTIA, in cooperation with other designated federal agencies, to establish a program to share supply chain security risk information with trusted providers of advanced communications service and suppliers of communications equipment or services. Through this Notice, NTIA is extending the comment deadline by 15 days from July 13, 2020, to July 28, 2020.

DATES: Comments must be received on or before July 28, 2020.

ADDRESSES: Written comments may be submitted by email to supplychaininfo@ntia.gov. Written comments also may be submitted by mail to the National Telecommunications and Information Administration, U.S. Department of Commerce, 1401 Constitution Avenue NW, Room 4725, Attn: Evelyn L. Remaley, Associate Administrator, Office of Policy Analysis and Development, Washington, DC 20230. Responders should include the name of the person or organization filing the comment, as well as a page number, on each page of their submissions. All comments received are a part of the public record and will generally be posted to http://www.ntia.doc.gov/ without change. All personal identifying information (e.g., name, address) voluntarily submitted by the commenter may be publicly accessible. Do not submit Confidential Business Information or otherwise sensitive or protected information. NTIA will also accept anonymous comments.

FOR FURTHER INFORMATION CONTACT: Megan Doscher, National Telecommunications and Information Administration, U.S. Department of Commerce, 1401 Constitution Avenue NW, Room 4725, Washington, DC 20230; telephone (202) 482-2503; mdoscher@ntia.gov. Please direct media inquiries to NTIA's Office of Public Affairs, (202) 482-7002, or at press@ntia.gov.

SUPPLEMENTARY INFORMATION: Section 8 of the Secure and Trusted Communications Network Act of 2019 (Act) directs NTIA, in cooperation with the Office of the Director of National Intelligence, the Department of Homeland Security (DHS), the Federal Bureau of Investigation, and the Federal Communications Commission (FCC), to establish a program to share “supply chain security risk” information with trusted providers of “advanced communications service” and suppliers of communications equipment or services. As part of that program, NTIA must “conduct regular briefings and other events” to share information with trusted providers and suppliers and “engage” with such providers and suppliers, particularly those that are small businesses or that primarily serve rural areas. NTIA must also develop, and submit to Congress, a plan for declassifying material, when feasible, and expediting and expanding the provision of security clearances to facilitate information sharing from the Federal government to trusted providers and suppliers. On June 12, 2020, NTIA published a Notice and Request for public comments seeking public comment on several key terms in the Act, as well as on steps that should be taken to best achieve the purposes of the Act. See NTIA, Notice; Request for public comments, Promoting the Sharing of Supply Chain Security Risk Information Between Government and Communications Providers and Suppliers, 85 FR 35919 (June 12, 2020), available at: https://www.ntia.gov/files/ntia/publications/fr-rfc-promoting-sharing-supply-chain-security-risk-information.pdf. The original deadline for submission of comments was July 13, 2020. With today's Notice, NTIA extends the comment deadline by 15 days until July 28, 2020. All other information in the June 12, 2020, Notice and Request for public comments remain unchanged.

Dated: June 30, 2020.
Kathy Smith,
Chief Counsel, National Telecommunications and Information Administration.

[FR Doc. 2020-14477 Filed 7-6-20; 8:45 am]

BILLING CODE 3510-60-P